ENVIRONMENTAL PROTECTION AGENCY

40 CFR Parts 50, 51, and 81

[OAR 2003-0079, FRL-7779-2]

RIN 2060-AJ99

Revision to the Preamble of the Final Rule To Implement the 8-Hour Ozone National Ambient Air Quality Standard—Phase 1; Correction

AGENCY: Environmental Protection Agency (EPA).

ACTION: Final rule; correction.

SUMMARY: The EPA issued a final rule on April 30, 2004 (69 FR 23951) that set forth certain nationally-applicable requirements for implementation of the 8-hour ozone national ambient air quality standard (NAAQS)—the phase 1 rule. Section VI.L. of the preamble (69 FR 23995), provided that petitions for review challenging the final rule should be filed in the “appropriate circuit.” The Clean Air Act (CAA) provides that petitions for review of any nationally applicable regulations may be filed only in the United States Court of Appeals for the District of Columbia Circuit. This document modifies section VI.L. to clarify that petitions for review of the phase I rule must be filed in the United States Court of Appeals for the District of Columbia Circuit.

DATES: This document is effective on June 25, 2004.

FOR FURTHER INFORMATION CONTACT: Mr. John Silvasi, Office of Air Quality Planning and Standards, U.S. Environmental Protection Agency, Mail Code C539-02, Research Triangle Park, NC 27711, phone number (919) 541-5666, fax number (919) 541-0824 or by e-mail at silvasi.john@epa.gov or Ms. Denise Gerth, Office of Air Quality Planning and Standards, U.S. Environmental Protection Agency, Mail Code C539-02, Research Triangle Park, NC 27711, phone number (919) 541-5550, fax number (919) 541-0824 or by e-mail at gerth.denise@epa.gov.

SUPPLEMENTARY INFORMATION: The EPA issued final rule on April 30, 2004 (69 FR 23951) that set forth certain requirements for implementation of the 8-hour ozone NAAQS. That action is referred to as the “phase 1 rule.” Section VI.L. of the preamble (69 FR 23995) provides information regarding when challenges to the phase 1 rule may be filed in accordance with section 307(b) of the CAA. Section 307(b) of the CAA provides that challenges to any nationally applicable regulations may be filed only in the United States Court of Appeals for the District of Columbia Circuit. It also provides that challenges to any locally or regionally applicable rules may be filed in the United States Court of Appeals for the appropriate circuit. However, if EPA determines that a locally or regionally applicable rule is of nationwide scope and effect, then a challenge must be filed in the United States Court of Appeals for the District of Columbia Circuit.

The phase 1 rule is a nationally applicable rule. It establishes requirements for the 8-hour ozone NAAQS and those requirements apply in a consistent manner across the nation. The rule does not establish any requirements or obligations that apply only on a local or regional basis. Thus, under section 307(b), challenges to the phase 1 rule must be filed in the United States Court of Appeals for the District of Columbia Circuit. By the reference in section VI.L. to challenges being filed in the “appropriate circuit,” EPA did not intend to suggest that a Court other than the United States Court of Appeals for the District of Columbia Circuit could be appropriate or that phase 1 rule is locally or regionally applicable as that phrase is used in section 307(b). However, because EPA's statement in section VI.L. could be misconstrued, we are issuing this correction to clarify the Agency's intention by replacing the clause “appropriate circuit” with “United States Court of Appeals for the District of Columbia Circuit.”

The following is the corrected language:

Petitions for Judicial Review

Under section 307(b)(1) of the CAA, petitions for judicial review of this action must be filed in the United States Court of Appeals for the District of Columbia Circuit by June 29, 2004. Filing a petition for reconsideration by the Administrator of this final rule does not affect the finality of this rule for the purposes of judicial review nor does it extend the time within which a petition for judicial review may be filed, and shall not postpone the effectiveness of such rule or action. This action may not be challenged later in proceedings to enforce its requirements. See CAA section 307(b)(2).

Authority: 42 U.S.C. 7408; 42 U.S.C. 7410; 42 U.S.C. 7501-7511f; 42 U.S.C. 7601(a)(1); 42 U.S.C. 7401.

Dated: June 21, 2004.
Robert Brenner,
Acting Assistant Administrator.

[FR Doc. 04-14457 Filed 6-24-04; 8:45 am]

BILLING CODE 6560-50-M